DEPARTMENT OF AGRICULTURE

Office of the Secretary

[Docket Number FV06-374]

Privacy Act: Notice of Updated System of Records

AGENCY: Office of the Secretary, USDA.

ACTION: Notice of updated System of Records—USDA/AMS—3, entitled Perishable Agricultural Commodities Act (PACA)—Oracle Database.

SUMMARY: In accordance with the requirements of the Privacy Act of 1974, as amended, 5 U.S.C. 552a, the United States Department of Agriculture (USDA), Agricultural Marketing Service (AMS), is giving notice that it has updated a system of records that is maintained for the purpose of enforcing the PACA, which AMS administers.

DATES: Effective Date: This notice will be effective without further notice on December 18, 2006, unless modified by a subsequent notice to incorporate comments received by the public. Written or electronic comments must be received by the contact person listed below on or before December 7, 2006 to be assured consideration.

ADDRESSES: You may submit written or electronic comments to:

(1) PACA System of Records Comments, AMS, F&V Programs, PACA Branch, 1400 Independence Avenue, SW., Room 2095-S, Stop 0242, Washington DC 20250-0242.

(2) Fax: 202-690-4413.

(3) E-mail comments to Dexter.Thomas@usda.gov.

(4) Internet: http://www.regulations.gov.

Instructions: All comments will become a matter of public record and should be identified as PACA System of Records Comments. Comments will be available for public inspection from AMS at the above address or over the AMS Web site at: http://www.ams.usda.gov/paca. Web site questions can be addressed to the PACA Webmaster, Dexter.Thomas@usda.gov.

FOR FURTHER INFORMATION CONTACT: Lorenzo A. Tribbett, Assistant Branch Chief, PACA Branch, at 202-720-4180.

SUPPLEMENTARY INFORMATION: The PACA was enacted by Congress in 1930 to establish a code of fair trading practices covering the marketing of fresh and frozen fruits and vegetables in interstate or foreign commerce. It protects growers, shippers, and distributors dealing in those commodities by prohibiting unfair and fraudulent trade practices.

The law provides a forum for resolving contract disputes and assessing damages against anyone who fails to meet contractual obligations. In addition, the PACA prohibits unfair trading practices in the fruit and vegetable industry and imposes sanctions against violating firms and firms' principals when violations of the law occur. The PACA also imposes a statutory trust that attaches to perishable agricultural commodities received by regulated entities, products derived from the commodities, and any receivables or proceeds from the sale of the commodities. The trust exists for the benefit of produce suppliers, sellers, or agents that have not been paid, and continues until they have been paid in full.

The PACA is enforced through a licensing system. All commission merchants, dealers, and brokers engaged in business subject to the PACA must be licensed. Those who engage in practices prohibited by the PACA may have their licenses suspended or revoked. Licensees must report principals, stockholders, home addresses, and business locations to allow for proper notification in the event of a commercial dispute. Sections 3 and 4 of the PACA (7 U.S.C 499c and 499d) and Sections 46.3 through 46.13 of the PACA regulations (7 CFR 46.3-46.13) establish the requirement for licensing and the type of information that must be reported.

The information collected and maintained in the PACA system of records is used to administer licensing provisions under the PACA, to adjudicate contract disputes, and to enforce the PACA and the PACA regulations. In accordance with Office of Management and Budget regulations (5 CFR part 1320) that implement the Paperwork Reduction Act of 1995 (44 U.S.C. Chapter 35), the information collected and maintained by the PACA system of records was approved on October 5, 2004, and will expire on October 31, 2007.

This system maintains a database of PACA licensees, including personal and business information from individuals and entities licensed under the PACA to do business in the fruit and vegetable industry. The following information is contained in the system: Name, home address, Social Security number (SSN), and employer identification number.

In addition to the above information, this system tracks dates when licenses are due for renewal and automatically generates a renewal application, and if necessary, a reinstatement or termination notice of those licenses. Functions of this database include:

1. Adding a new customer to the database;

2. Editing or updating customer information;

3. Contacting a business about its need for a license;

4. Issuing a license;

5. Tracking of license fees;

6. Maintaining information on PACA reparation complaints;

7. Tracking violators;

8. Maintaining bankruptcy information;

9. Tracking surety bonds;

10. Tracking of complaint fees; and

11. Updating a customer's license status if the customer is found liable in a reparation complaint proceeding.

There is an inbuilt Query module that allows the user to query customers, its principals, and complaint information.

In addition to entering, tracking, and querying information, the user has the ability to print out a large number of documents, including items such as correspondence and complaint reports. Development of this system also included database backup and recovery and Internet security (Web-based application).

A “Report on an Updated System,” required by 5 U.S.C. 552a(r), as implemented by OMB Circular A-130, was sent to the Chairman, Senate Committee on Homeland Security and Governmental Affairs; the Chairman, House Committee on Government Reform; and the Acting Administrator, Office of Information and Regulatory Affairs, of the Office of Management and Budget.

Dated: November 1, 2006.
Mike Johanns,
Secretary.

USDA/AMS-3

SYSTEM NAME:

Perishable Agricultural Commodities Act (PACA)—Oracle Database.

SECURITY CLASSIFICATION:

None.

SYSTEM LOCATION:

This system of records is under the control of the Deputy Administrator, Fruit and Vegetable Programs, Agricultural Marketing Service, U.S. Department of Agriculture, 1400 Independence Avenue, SW., Washington, DC 20250. The data are maintained in the Fruit and Vegetable Program's PACA Branch Oracle Database computer system.

CATEGORIES OF INDIVIDUALS COVERED BY THE SYSTEM:

The information in the system includes individuals' names, home addresses, Social Security numbers, employer identification numbers, license fees, surety bonds, and percentages of ownership that individuals may have in a company.

AUTHORITY FOR MAINTENANCE OF THE SYSTEM:

7 U.S.C. et seq.

ROUTINE USES OF RECORDS MAINTAINED IN THE SYSTEM, INCLUDING CATEGORIES OF USERS AND THE PURPOSES OF SUCH USES:

The information collected and maintained in the PACA system of records is used to administer licensing provisions under the PACA, to adjudicate contract disputes, and to enforce the PACA and PACA regulations.

This information may be used as follows:

1. Referral to the appropriate agency, whether Federal, State, local, or foreign, charged with the responsibility of investigating or prosecuting a violation of law, or enforcing or implementing the statute, rule, regulation or order issued pursuant thereto, or any record within this system when available information indicates a violation or potential violation of law, whether civil, criminal, or regulatory in nature, and whether arising by general statute or particular program statute, or by rule, regulation, or order issued pursuant thereto.

2. Referral to a court, magistrate, or administrative tribunal, or to opposing counsel in a proceeding before any of the above, or any record with the system which constitutes evidence in that proceeding, or which is sought in the course of discovery.

POLICIES AND PRACTICES FOR STORING, RETRIEVING, ACCESSING, RETAINING AND DISPOSING OF RECORDS IN THE SYSTEM:

STORAGE:

Records are maintained in the system on a file server and in file folders in secure rooms at USDA. A backup of the entire database system is performed nightly and saved as an encrypted Oracle file on the server. A copy of the entire Oracle database file is transferred periodically to a secure offsite location, and also backed up nightly.

RETRIEVABLITY:

Records are retrievable by PACA license number, individual name, company name, and Social Security number.

SAFEGUARDS:

Access to records is limited to persons who process the records for the specific routine uses stated above. Records in such formats as those used for computer servers are kept in physically secured rooms. Various methods of computer security limit access to records in the database. Paper records are stored and maintained in file cabinets that are kept in physically secured rooms.

RETENTION AND DISPOSAL:

Records are maintained and destroyed in accordance with retention schedule number NN 165-106, approved by the 89th Congress, First Session, on April 1, 1965.

SYSTEM MANAGER(S) AND ADDRESS:

Branch Chief, PACA Branch, Fruit and Vegetable Programs, Agricultural Marketing Service, U.S. Department of Agriculture, 1400 Independence Avenue, SW., 2095 South Building, Washington, DC 20250.

NOTIFICATION PROCEDURE:

Individuals may request from the system manager identified above information regarding this system of records and/or information on whether the system contains records pertaining to them. Any individual requesting such information must provide his or her name, address, and Social Security number.

RECORD ACCESS PROCEDURE:

Individuals may obtain information about records in the system pertaining to them by submitting a written request to the system manager listed above. The envelope and letter should be marked “Privacy Act Request” and should include the name, address, and Social Security number of the individual for which the request is made.

CONTESTING RECORD PROCEDURES:

Individuals desiring to contest or amend information maintained in the system should direct their requests to the system manager listed above, state the reason(s) for contesting the information, and provide all available documentation to support the requested action.

RECORD SOURCE CATEGORIES:

Information in this system is provided by the entities submitting applications for licenses under the Perishable Agricultural Commodities Act, 1930, as amended. Personal information in this system is also obtained from the owners and officers of such entities as reported on the applications for license.

EXEMPTIONS CLAIMED FOR THE SYSTEM:

None.

[FR Doc. E6-18699 Filed 11-6-06; 8:45 am]

BILLING CODE 3410-02-P